DEPARTMENT OF ENERGY

Federal Energy Regulatory Commission

Sunflower Electric Power Corporation, Xcel Energy Inc.; Notice of Alternative Dispute Resolution Meeting

June 26, 2003.

The Commission's Dispute Resolution Service has been asked to mediate an informal Alternative Dispute Resolution (ADR) meeting on Monday, July 14 and Tuesday, July 15, 2003, to discuss Sunflower Electric Power Corporation's (Sunflower) proposal to Xcel Energy Inc. (Xcel) to relocate a High Voltage Direct Current converter station in connection with Xcel's construction of a DC tie line. Current plans call for construction of the converter station at Lamar, Colorado, but both Sunflower and Xcel recently have been discussing and negotiating the possibility of locating the converter station near Holcomb, Kansas. Sunflower and Xcel have agreed to participate in the meeting. The purpose of this notice is to invite others who have a significant interest in this matter to also attend.

The meeting will begin at 10:00 a.m. on Monday, July 14, and will be held in the law offices of Ballard, Spahr, Andrews & Ingersoll, LLP, at Suite 2300, 1225 17th Street, Denver, Colorado, 80202 . Please plan for the meeting to flow over, as necessary, into Tuesday, July 15, 2003.

Steven A. Rothman, a mediator with the Commission's Dispute Resolution Service, will chair the meeting. He will be joined by Darrell Blakeway, a member of the Commission's Office of Markets and Investigations staff, as a co-mediator. Mr. Rothman and Mr. Blakeway are available to communicate in private with any interested person prior to the meeting. Questions about the meeting may be referred to Mr. Rothman at (202) 502-8643—Steven.Rothman@ferc.gov., or Mr. Blakeway at (202) 502-8437—Darrell.Blakeway@ferc.gov. Please let Mr. Rothman or Mr. Blakeway know by Thursday, July 10, 2003, if you plan to attend the meeting.

Parties may also communicate with Richard Miles, the Director of the Commission's Dispute Resolution Service at 1 877 FERC ADR (337-2237) or (202) 502-8702. Mr. Miles is also available at Richard.Miles@ferc.gov.

Magalie R. Salas,
Secretary.

[FR Doc. 03-16746 Filed 7-2-03; 8:45 am]

BILLING CODE 6717-01-P